NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before March 21, 2002. Once the appraisal of the records is completed, NARA will send a copy of the schedule. NARA staff usually prepare appraisal memorandums that contain additional information concerning the records covered by a proposed schedule. These, too, may be requested and will be provided once the appraisal is completed. Requesters will be given 30 days to submit comments.

ADDRESSES: To request a copy of any records schedule identified in this notice, write to the Life Cycle Management Division (NWML), National Archives and Records Administration (NARA), 8601 Adelphi Road, College Park, MD 20740-6001. Requests also may be transmitted by FAX to 301-713-6852 or by e-mail to records.mgt@nara.gov. Requesters must cite the control number, which appears in parentheses after the name of the agency which submitted the schedule, and must provide a mailing address. Those who desire appraisal reports should so indicate in their request.

FOR FURTHER INFORMATION CONTACT: Marie Allen, Director, Life Cycle Management Division (NWML), National Archives and Records Administration, 8601 Adelphi Road, College Park, MD 20740-6001. Telephone: (301) 713-7110. E-mail: records.mgt@nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending

1. Department of Agriculture, Food and Nutrition Service (N1-462-01-3, 1 item, 1 temporary item). Investigative case files pertaining to allegations of wrong doing involving the Food Stamp program. Records pertain to cases closed in fiscal year 1986 that did not attract media or congressional attention or result in substantive changes in agency policies and procedures.

2. Department of the Army, Agency-wide (N1-AU-00-31, 90 items, 90 temporary items). Short term records relating to military and civilian personnel management. Included are records relating to such matters as personnel procurement, the selection and classification of personnel, personnel processing, assignments, details, education, personnel evaluations, personnel absences, separations, and decorations, awards, and other honors. Also included are electronic copies of documents created using electronic mail and word processing. This schedule allows the agency to expedite disposal of these records, which were previously approved for disposal. It also authorizes the agency to apply the proposed disposition instructions to any recordkeeping medium.

3. Department of the Army, Agency-wide (N1-AU-00-43, 20 items, 20 temporary items). Short term records relating to such matters as audit reporting, stock inventory reconciliations, installation property, and hospital linen inventories. Also included are electronic copies of documents created using electronic mail and word processing. This schedule allows the agency to expedite disposal of these records, which were previously approved for disposal. It also authorizes the agency to apply the proposed disposition instructions to any recordkeeping medium.

4. Department of the Army, Agency-wide (N1-AU-01-09, 5 items, 5 temporary items). Short term records relating to safety liaison and awareness, target practice safety, system development management, and engineering safety. Also included are electronic copies of documents created using electronic mail and word processing. This schedule allows the agency to expedite disposal of these records, which were previously approved for disposal. It also authorizes the agency to apply the proposed disposition instructions to any recordkeeping medium.

5. Department of the Army, Agency-wide (N1-AU-01-11, 28 items, 28 temporary items). Short term records relating to religious activities, morale, welfare and recreation, schools, service organizations, manpower and equipment control, and force development. Included are such records as chapel registers, non-appropriated fund property inventories, recreational event planning files, academic training records, staffing surveys and reports, and materiel and supply estimates. Also included are electronic copies of documents created using electronic mail and word processing. This schedule allows the agency to expedite disposal of these records, which previously were approved for disposal. It also authorizes the agency to apply the proposed disposition instructions to any recordkeeping medium.

6. Department of the Army, Agency-wide (N1-AU-01-12, 47 items, 47 temporary items). Short term records relating to legal services, military police matters, and criminal investigations. Included are such records as applications and acceptance notices for the Army's legal education program, records of appearances of Army personnel as counsel or witnesses in civilian courts, court-martial records accumulated in offices below the level of Judge Advocate General, statistical and fiscal data on claims, requests for deviations from intellectual property contract clauses, automobile and traffic enforcement records, and identification card applications and registers, as well as reports, photographs, logs, evidence ledgers, polygraph examinations, and additional criminal investigation records other than those included in criminal investigation case files. Also included are records relating to overseeing of Army prisoners regarding such matters as mail, work assignments, appointment passes, and return to duty. Also included are electronic copies of documents created using electronic mail and word processing. This schedule allows the agency to expedite disposal of these records, which previously were approved for disposal. It also authorizes the agency to apply the proposed disposition instructions to any recordkeeping medium.

7. Department of the Army, Agency-wide (N1-AU-01-13, 46 items, 46 temporary items). Short term records relating to such matters as engineering projects, facilities, internal reviews, audits, energy conservation, housing, maintenance activities, the operation of cemeteries, and laundry services. Electronic copies of documents created using electronic mail and word processing are included. This schedule allows the agency to expedite disposal of these records, which were previously approved for disposal. It also authorizes the agency to apply the proposed disposition instructions to any recordkeeping medium.

8. Department of the Army, Agency-wide (N1-AU-01-18, 1 item, 1 temporary item). Master file of the Education Management Information System, an electronic information system pertaining to educational counseling and tuition assistance for military personnel. The system includes information concerning educational counseling actions, courses taken and grades attained, and tuition assistance committed and spent.

9. Department of the Army, Agency-wide (N1-AU-01-26, 9 items, 8 temporary items). Records relating to inspector general activities including investigative case files, inspection reports, inquiries, and electronic copies of documents created using electronic mail and word processing. This schedule increases the retention period of investigative case files and inquiries concerning allegations against personnel, which were previously approved for disposal, while it decreases the previously approved retention period for records that relate to matters that do not result in the establishment of a formal case file. Recordkeeping copies of case files and reports relating to significant investigations and inspections are proposed for permanent retention. This schedule also authorizes the agency to apply the proposed disposition instructions to any recordkeeping medium.

10. Department of Commerce, National Oceanic and Atmospheric Administration (N1-370-00-5, 35 items, 27 temporary items). Records documenting geodetic field surveys and observational data such as points of latitude, longitude, height, scale, gravity, and orientation, and how these values change over time, across the United States. Included are field observations, abstracts of results, field party management files, instrument calibration files, and electronic copies of records created using electronic mail and word processing. Proposed for permanent retention are recordkeeping copies of historical astronomic observations, project reports and sketches, and adjusted electronic data derived from field observations.

11. Department of Defense, Joint Staff (N1-218-00-4, 65 items, 53 temporary items). Records relating to intelligence and security matters accumulated by the Joint Staff and combatant commands. Included are such records as directives, guides, correspondence, reports, studies, forms, and memorandums pertaining to general security administration, control of classified information, security audits and inspections, estimates of capabilities, and foreign national visits. Also included are electronic copies of documents created using electronic mail and word processing and electronic systems maintained at combatant commands that feed into systems maintained at higher levels. Recordkeeping copies of records documenting security policy, intelligence planning and policy, investigations, information collection and dissemination, prisoners of war, and special access programs are proposed for permanent retention.

12. Department of the Interior, U.S. Geological Survey (N1-57-01-4, 18 items, 12 temporary items). Planning and administrative records, including such files as reference copies of documents pertaining to history projects, management improvement project case files, administrative management subject files and reports, and electronic copies of documents created using electronic mail and word processing. Proposed for permanent retention are recordkeeping copies of such records as organizational charts and reorganization studies, program policy and mission files, historical project case files, and the files of the Bureau Director.

13. Department of Labor, Employment Standards Administration (N1-448-02-1, 1 item, 1 temporary item). Schedules of daily activities accumulated by the Assistant Secretary for Employment Standards and members of his immediate office staff, 1980-1986. Records consist of brief notations concerning appointments, meetings, trips, speeches, and attendance at events.

14. Department of the Navy, U. S. Marine Corps (N1-127-01-1, 3 items, 3 temporary items). Student research papers prepared at such institutions as the Command and Staff College, the Amphibious Warfare School, the School of Advanced Warfighting, and the Command and Control System School. Also included are electronic copies of documents created using electronic mail and word processing.

15. Commodity Futures Trading Commission, Agency wide (N1-180-00-1, 100 items, 70 temporary items). Comprehensive records schedule covering all agency records. Records proposed for disposal include such file series as administrative files, recurring reports, congressional correspondence, applications for registration, registration fitness examinations, large trader report files, the exchange database system, reparations complaint files, training records, press clippings, working papers, and routine litigation, investigation, and enforcement case files. Also included are electronic copies of records created using electronic mail and word processing. Proposed for permanent retention are recordkeeping copies of such files as publications, reports to Congress, central files of the Chairman and the Commissioners, official minutes of Commission meetings, speeches, press releases, biography files, and historically significant case files relating to investigations, litigation, and enforcement actions.

16. Department of the Treasury, Financial Management Service (N1-425-02-1, 16 items, 16 temporary items). Records of the Agency Services Division including such materials as reference files, reimbursable client records, financial statements and other financial documents, facilities management records, marketing material, policy and procedure documentation, office subject files, status reports, Federal Managers Financial Integrity Act reports, and electronic accounting records. Also included are the electronic copies of documents created using electronic mail and word processing.

17. Pension Benefit Guaranty Corporation, Office of the Deputy Executive Director and Chief Operating Officer (N1-465-02-2, 9 items, 9 temporary items). Pension plan company files, working files used in processing terminated plans, and plan termination case files. Included are correspondence, printouts, medical files, personnel and payroll records, and electronic records, such as imaged documents, computer disks, magnetic tapes, and electronic copies of documents created using electronic mail and word processing.

Dated: January 28, 2002.
Michael J. Kurtz,
Assistant Archivist for Record Services—Washington, DC.

[FR Doc. 02-2554 Filed 2-1-02; 8:45 am]

BILLING CODE 7515-01-P